DEPARTMENT OF THE INTERIOR

National Park Service

[NPS-WASO-NAGPRA-13770; PPWOCRADN0-PCU00RP14.R50000]

Notice of Inventory Completion: Thomas Burke Memorial Washington State Museum, University of Washington, Seattle, WA, and Central Washington University, Ellensburg, WA

AGENCY: National Park Service, Interior.

ACTION: Notice.

SUMMARY: The Thomas Burke Memorial Washington State Museum, University of Washington (Burke Museum), and Central Washington University have completed an inventory of human remains and associated funerary objects, in consultation with the appropriate Indian tribes or Native Hawaiian organizations, and have determined that there is a cultural affiliation between the human remains and associated funerary objects and present-day Indian tribes or Native Hawaiian organizations. Lineal descendants or representatives of any Indian tribe or Native Hawaiian organization not identified in this notice that wish to request transfer of control of these human remains and associated funerary objects should submit a written request to the Burke Museum or Central Washington University. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Burke Museum or Central Washington University at the address in this notice by October 30, 2013.

ADDRESSES: Peter Lape, Burke Museum, University of Washington, Box 353010, Seattle, WA 98195, telephone (206) 685-3849, email plape@uw.edu, and Lourdes Henebry-DeLeon, Department of Anthropology, Central Washington University, 400 East University Way, Ellensburg, WA 98926-7544, telephone (509) 963-2671, email deleonl@cwu.edu.

SUPPLEMENTARY INFORMATION: Notice is here given in accordance with the Native American Graves Protection and Repatriation Act (NAGPRA), 25 U.S.C. 3003, of the completion of an inventory of human remains and associated funerary objects under the control of the Burke Museum and Central Washington University. The human remains were removed from Island County, WA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains and associated funerary objects was made by the Burke Museum and Central Washington University professional staff in consultation with representatives of the Lummi Tribe of the Lummi Reservation; Puyallup Tribe of the Puyallup Reservation; Samish Indian Nation (previously listed as the Samish Indian Tribe, Washington); Sauk-Suiattle Indian Tribe; Stillaguamish Tribe of Indians of Washington (previously listed as the Stillaguamish Tribe of Washington); Swinomish Indians of the Swinomish Reservation of Washington; Tulalip Tribes of Washington (previously listed as the Tulalip Tribes of the Tulalip Reservation, Washington); and the Upper Skagit Indian Tribe (hereafter referred to as “The Consulted Tribes”).

History and Description of the Remains

In 1926, human remains representing, at minimum, four individuals were removed from San de Fuca in Island County, WA. The human remains were removed by M.E. Hingston and donated to the Burke Museum in 1926 (Burke Accn. #2134). The remains were found under six inches of clam shells from a known Indian burial site. In 1974, the Burke Museum staff legally transferred elements associated with the individuals to Central Washington University (CWU AS and BR). No known individuals were identified. No associated funerary objects are present.

In 1937, human remains representing, at minimum, five individuals were removed from Camano Island in Island County, WA. The human remains were removed during a museum expedition led by Cane Schwarder and accessioned by the Burke Museum in 1937 (Burke Accn. #2958). In 1974, the Burke Museum staff legally transferred elements associated with the individuals to Central Washington University (CWU BS, BT, and DJ). No known individuals were identified. No associated funerary objects are present.

In 1940, human remains representing, at minimum, five individuals were removed from Rocky Point in Island County, WA. The human remains were removed from a known Native cemetery after reports of vandalism. The cultural items were removed by a museum expedition led by Wayne Suttles and transferred to the Burke Museum in 1940 (Burke Accn. #3164). In 1974, the Burke Museum staff legally transferred elements and cultural items associated with the individuals to Central Washington University (CWU AT). No known individuals were identified. The 15 associated funerary objects are one shaker bell, one bowl, one porcelain doll, one porcelain figurine, two porcelain cups, one ointment jar, one tin can, one metal ring, one metal button, two fragmentary sets of shoes, one lot of nails and burial box pieces, and two unmodified shells.

The sites described in this notice are located either in the Penn Cove area of Whidbey Island or on the northwestern shore of Camano Island. The human remains have been determined to be Native American based on a variety of sources, including archeological and biological evidence. The human remains were determined to be consistent with Native American morphology as evidenced either through cranial deformation, bossing of the cranium, presence of wormian bones, or shovel shaped incisors.

Based on archaeological evidence, the human remains are Native American. Linguistically, Native American speakers of the northern dialect of the Lushootseed language claim cultural heritage to the Northern Puget Sound area. Culturally Native Americans from the Northern Puget Sound area are members of Southern Coast Salish tribes. Historical and anthropological sources (Deur 2009, Mooney 1896, Roberts 1975, Ruby and Brown 1986, Spier 1936, and Swanton 1952) indicate that the Kikiallus, Swinomish, Lower Skagit and Stillaguamish peoples occupied and had village sites in the Penn Cove area and on the northwestern shore of Camano Island. Although the Indian Claims Commission determined that the sites near Penn Cove on Whidbey Island fell within the aboriginal territory of the Lower Skagit, shortly after 1855, anthropologists and historians described this area as a mixed community. Penn Cove was one of the communities where the Stillaguamish and other tribes were told to move after being forced to leave their villages on the mainland (Deur 2009, and Grady 2012).

Today, descendants of Kikiallus are members of the Stillaguamish Tribe of Indians of Washington (previously listed as the Stillaguamish Tribe of Washington); Swinomish Indians of the Swinomish Reservation of Washington; and Tulalip Tribes of Washington (previously listed as the Tulalip Tribes of the Tulalip Reservation, Washington). Today, the Lower Skagit are primarily members of the Swinomish Indians of the Swinomish Reservation of Washington and the Tulalip Tribes of Washington (previously listed as the Tulalip Tribes of the Tulalip Reservation, Washington).

Determinations made by the Burke Museum and Central Washington University

Officials of the Burke Museum and Central Washington University have determined that:

• Pursuant to 25 U.S.C. 3001(9), the human remains described in this notice represent the physical remains of 14 individuals of Native American ancestry.

• Pursuant to 25 U.S.C. 3001(3)(A), the 15 objects described above are reasonably believed to have been placed with or near individual human remains at the time of death or later as part of the death rite or ceremony.

• Pursuant to 25 U.S.C. 3001(2), there is a relationship of shared group identity that can be reasonably traced between the Native American human remains and the Stillaguamish Tribe of Indians of Washington (previously listed as the Stillaguamish Tribe of Washington); Swinomish Indians of the Swinomish Reservation of Washington; and the Tulalip Tribes of Washington (previously listed as the Tulalip Tribes of the Tulalip Reservation, Washington).

Additional Requestors and Disposition

Lineal descendants or representatives of any Indian tribe or Native Hawaiian organization not identified in this notice that wish to request transfer of control of these human remains and associated funerary objects should submit a written request with information in support of the request to Peter Lape, Burke Museum, University of Washington, Box 353010, Seattle, WA 98195, telephone (206) 685-3849, email plape@uw.edu, or Lourdes Henebry-DeLeon, Department of Anthropology, Central Washington University, 400 East University Way, Ellensburg, WA 98926-7544, telephone (509) 963-2671, email deleonl@cwu.edu, by October 30, 2013. After that date, if no additional requestors have come forward, transfer of control of the human remains to the Stillaguamish Tribe of Indians of Washington (previously listed as the Stillaguamish Tribe of Washington); Swinomish Indians of the Swinomish Reservation of Washington; and the Tulalip Tribes of Washington (previously listed as the Tulalip Tribes of the Tulalip Reservation, Washington) may proceed.

The Burke Museum is responsible for notifying The Consulted Tribes that this notice has been published.

Dated: August 14, 2013.
David Tarler,
Acting Manager, National NAGPRA Program.

[FR Doc. 2013-23822 Filed 9-27-13; 8:45 am]

BILLING CODE 4312-50-P